DEPARTMENT OF THE INTERIOR

National Park Service

Delaware Water Gap National Recreation Area Citizen Advisory Commission Meeting

AGENCY: National Park Service; Interior.

ACTION: Notice of meeting.

SUMMARY: This notice announces public meetings of the Delaware Water Gap National Recreation Area Citizen Advisory Commission. Notice of these meetings is required under the Federal Advisory Committee Act (Public Law 92-463).

Meeting Date and Time: Saturday, January 11, at 9 a.m.

Address: Bushkill Visitor Center, Bushkill, PA 18324.

The agenda will include reports from Citizen Advisory Commission members, specifically Commission vacancies and setting up a timetable for annual reports. Superintendent William Laitner will give a report on various park issues, including an update on the park's historic leasing program. The agenda is set up to invite the public to bring issues of interest before the Commission. These issues typically include treatment of historic buildings within the recreation area, monitoring of waste water facilities outside the recreation area but emptying into the Delaware River, and wildlife management issues.

Meeting Date and Time: Thursday, April 3 at 7 p.m.

Address: New Jersey District Office, Walpack, New Jersey 07881.

The agenda for this meeting will consist of Commission reports which typically include natural resources, recreation, and historic structures. The Superintendent will provide reports on park issues and items of interest brought forth by the Commission and the public. The agenda is set up to invite the public to bring issues of interest before the Commission.

Meeting Date and Time: Thursday, April 3 immediately following previous meeting.

Address: New Jersey District Office, Walpack, New Jersey 07881.

Congressional Listing for Delaware Water Gap NRA

Honorable Jon Corzine, United States Senate, Washington, DC 20510.

Honorable Robert G. Torricelli, U.S. Senate, Washington, DC 20510-3001.

Honorable Richard Santorum, U.S. Senate, SR 120 Senate Russell Office Bldg., Washington, DC 20510.

Honorable Arlen Specter, U.S. Senate, SH-530 Hart Senate Office Bldg., Washington, DC 20510-3802.

Honorable Pat Toomey, U.S. House of Representatives, Cannon House Office Bldg., Washington, DC 20515.

Honorable Don Sherwood, U.S. House of Representatives, 2370 Rayburn House Office Bldg., Washington, DC 20515-3810.

Honorable Margaret Roukema, U.S. House of Representatives, 2244 Rayburn House Office Bldg., Washington, DC 20515-3005.

Honorable Paul E. Kanjorski, 2353 Rayburn House Office Building, S. Capitol Street & Independence Avenue, SW., Washington, DC 20515.

Governor of Pennsylvania, State Capitol, Harrisburg, PA 17120.

Governor of New Jersey, State House, Trenton, NJ 08625.

The agenda for this meeting will consist of the annual Commission meeting and election of officers for 2003-2004.

SUPPLEMENTARY INFORMATION: The Delaware Water Gap National Recreation Area Citizen Advisory Commission was established by Public Law 100-573 to advise the Secretary of the Interior and the United States Congress on matters pertaining to the management and operation of the Delaware Water Gap National Recreation Area, as well as on other matters affecting the recreation area and its surrounding communities.

FOR FURTHER INFORMATION CONTACT: Superintendent, Delaware Water Gap National Recreation Area, Bushkill, PA 18324, 570-588-2418.

Dated: October 9, 2002.
William G. Laitner,
Superintendent.

[FR Doc. 02-30488 Filed 12-2-02; 8:45 am]

BILLING CODE 4310-70-P